DEPARTMENT OF JUSTICE

Federal Bureau of Prisons

Notice of the Availability of the Finding of No Significant Impact Concerning a Proposal To Award a Contract to House Federal, Low-Security, Criminal Aliens in a Contractor-Owned/Contractor-Operated Correctional Facility

AGENCY: U.S. Department of Justice, Federal Bureau of Prisons.

ACTION: Finding of No Significant Impact.

SUMMARY: The U.S. Department of Justice, Federal Bureau of Prisons (BOP) announces the availability of the Finding of No Significant Impact (FONSI) concerning the Environmental Assessment (EA) for the proposal to award one or more contracts to house 900 to approximately 3,000 federal, low-security, adult male, non-U.S. citizen, criminal aliens within one or more existing contractor-owned and operated correctional facilities.

Background Information

Pursuant to Section 102, 42 U.S.C. 4332, of the National Environmental Policy Act (NEPA) of 1969, as amended and the Council on Environmental Quality Regulations (40 CFR parts 1500-1508), the BOP published an EA concerning a proposal to award one or more contracts to house 900 to approximately 3,000 Federal, low-security, adult male, non-U.S. citizen, criminal aliens within one or more existing contractor-owned and operated correctional facilities.

The 30-day public comment period began on January 28, 2011 and was extended by 10 days at the request of a member of the public in order to submit comments to the BOP concerning the EA. By March 9, 2011, the BOP received comment letters from several government agencies and a member of the public which raised technical and non-technical issues and questions.

Following a thorough review of all public comments and environmental documentation amassed in support of the proposed action, the BOP determined that it was appropriate and in the best interests of the public to prepare a new EA. The new EA incorporated additional information prepared in response to public comments. The new EA also provided the most current information available regarding the alternative facilities as well as the BOP's Preferred Alternative.

Project Information

Under the proposed action, the contractor(s) selected to house the approximately 3,000 Federal, low-security, adult male, criminal aliens would be responsible for ensuring that the correctional facility(s) is operated in a manner consistent with the mission of the BOP and state and federal laws and regulations. It is anticipated that the BOP will predominantly assign Federal, low-security, adult male, criminal aliens (comprised primarily of persons with a year or less remaining to serve) to the selected facility. However, the BOP may designate any inmate within its custody utilizing the same designation criteria as used at other BOP facilities. All inmate services and programs would be developed and implemented to comply with the BOP's contract requirements and all applicable federal, state and local laws and regulations.

Following publication of the solicitation for the Short Term Sentences procurement, the BOP received responses from contractors representing nine alternative facilities. Of the nine alternative locations, six were either withdrawn by contractor(s) or eliminated from consideration by the BOP on the basis of non-environmental criteria. Three existing correctional facilities, located in Oklahoma and Texas, were considered worthy of further consideration. Possible use of each of three existing facilities, in addition to the No Action alternative, were evaluated in an EA prepared by the BOP. The BOP would select one or more contractors for contract award from among the three offerors:

—Diamondback Correctional Center, Watonga, Oklahoma.

—Great Plains Correctional Facility, Hinton, Oklahoma.

—Willacy County Processing Center, Raymondville, Texas.

No other facilities were under consideration by the BOP. The BOP reserves the right to make multiple awards. In the event it is in the Government's best interest, the BOP may make up to two (based on proposals received) contract awards as long as the total quantity is within the scope of approximately 3,000 beds.

The BOP issued the EA on May 2, 2011, with publication of the Notice of Availability (NOA) in newspapers serving the area surrounding each of the alternative locations. The NOA included information concerning the 30-day public comment period which began on May 2, 2011, and ended on May 31, 2011. The BOP also distributed copies of the EA to federal agencies, state and local governments, elected officials, interested organizations, public libraries and individuals.

Availability of Finding of No Significant Impact

The FONSI is available upon request. To request a copy of the FONSI, please contact: Richard A. Cohn, Chief, or Issac J. Gaston, Site Selection Specialist, Capacity Planning and Site Selection Branch, Federal Bureau of Prisons, 320 First Street, NW., Washington, DC 20534 Tel: 202-514-6470/Fax: 202-616-6024/E-mail: racohn@bop.gov or IGaston@bop.gov

FOR FURTHER INFORMATION CONTACT: Richard A. Cohn, or Issac J. Gaston, Federal Bureau of Prisons.

Dated: May 24, 2011,
Richard A. Cohn,
Chief, Capacity Planning and Site Selection Branch.

[FR Doc. 2011-13486 Filed 5-31-11; 8:45 am]

BILLING CODE P